DEPARTMENT OF COMMERCE

National Oceanic and Atmospheric Administration

50 CFR Part 648

[Docket No. 151130999-6225-01]

RIN 0648-XE802

Fisheries of the Northeastern United States; Atlantic Bluefish Fishery; Quota Transfer

AGENCY: National Marine Fisheries Service (NMFS), National Oceanic and Atmospheric Administration (NOAA), Commerce.

ACTION: Temporary rule; quota transfer.

SUMMARY: NMFS announces that the states of Florida and Delaware and the Commonwealth of Virginia are transferring portions of their 2016 commercial bluefish quota to the Commonwealth of Massachusetts. These quota adjustments are necessary to comply with the Atlantic Bluefish Fishery Management Plan quota transfer provision. This announcement informs the public of the revised commercial quotas.

DATES: Effective August 19, 2016, through December 31, 2016.

FOR FURTHER INFORMATION CONTACT: Reid Lichwell, Fishery Management Specialist, (978) 281-9112.

SUPPLEMENTARY INFORMATION: Regulations governing the Atlantic bluefish fishery are found in 50 CFR 648.160 through 648.167. The regulations require annual specification of a commercial quota that is apportioned among the coastal states from Maine through Florida. The process to set the annual commercial quota and the percent allocated to each state are described in § 648.162.

The final rule implementing Amendment 1 to the Bluefish Fishery Management Plan published in the Federal Register on July 26, 2000 (65 FR 45844), provided a mechanism for transferring bluefish quota from one state to another. Two or more states, under mutual agreement and with the concurrence of the Administrator, Greater Atlantic Region, NMFS (Regional Administrator), can transfer or combine bluefish commercial quota under § 648.162(e)(1)(i) through (iii). The Regional Administrator is required to consider the criteria in § 648.162(e) in the evaluation of requests for quota transfers or combinations.

The transfers and the final revised quotas are shown in Table 1. These quota transfers were requested by the Commonwealth of Massachusetts to ensure that its 2016 quota would not be exceeded. The Regional Administrator has determined that the criteria set forth in § 648.162(e)(1)(i) through (iii) have been met. The quotas in Table 1 are based on the final rule implementing the 2016-2018 Atlantic Bluefish Specifications that became effective August 4, 2016 (81 FR 18559), and any subsequent approved state transfers.

Table 1—Atlantic Bluefish Transfers, by State
State | Transfer: lb | Transfer: kg | Final 2016 quota: lb | Final 2016 quota: kg
Massachusetts | 150,000 | 68,039 | 478,096 | 216,861
Delaware | −50,000 | −22,679 | 41,746 | 18,935
Virginia | −50,000 | −22,679 | 450,287 | 204,246
Florida | −50,000 | −22,679 | 341,394 | 154,853

Classification

This action is taken under 50 CFR part 648 and is exempt from review under Executive Order 12866.

Authority: 16 U.S.C. 1801 et seq.

Dated: August 17, 2016.
Emily H. Menashes,
Acting Director, Office of Sustainable Fisheries, National Marine Fisheries Service.

[FR Doc. 2016-19997 Filed 8-19-16; 8:45 am]

BILLING CODE 3510-22-P